DEPARTMENT OF TREASURY

Internal Revenue Service

Internal Revenue Service Advisory Council (IRSAC); Nominations

AGENCY: Internal Revenue Service, Department of Treasury.

ACTION: Request for Nominations.

SUMMARY: The Internal Revenue Service (IRS) requests nominations of individuals to be considered for selection as members of the Internal Revenue Service Advisory Council (IRSAC). Nominations should describe and document the proposed member's qualification for IRSAC membership, including the applicant's knowledge of Treasury Circular 230 regulations, the applicant's past and current affiliations, digital industry experience to include online services for tax professionals, experience working with software developers on tax-related applications, financial applications, software development and user experience design, and dealings with a particular tax segment of the community that he/she wishes to represent on the Council. Nominations will be accepted from qualified individuals and from professional and public interest groups that wish to have representatives on the IRSAC. The IRSAC is comprised of up to thirty-five (35) members. Nominations are currently being accepted for approximately nine appointments that will begin in January 2018. It is important that the IRSAC continue to represent a diverse taxpayer and stakeholder base. Accordingly, to maintain membership diversity, selection is based on the applicant's qualifications as well as areas of expertise, geographic diversity, major stakeholder representation and customer segments.

The IRSAC provides an organized public forum for IRS officials and representatives of the public to discuss relevant tax administration issues, and it advises the IRS on issues that have a substantive effect on federal tax administration. As an advisory body designed to focus on broad policy matters, the IRSAC reviews existing tax policy and/or recommends policies with respect to emerging tax administration issues. The IRSAC suggests operational improvements, offers constructive observations regarding current or proposed IRS policies, programs, and procedures and advises the IRS with respect to issues having a substantive effect on federal tax administration.

DATES: Written nominations will be accepted from April 27 through June 16, 2017.

ADDRESSES: Applications should be submitted to: Anna Millikan, IRS National Public Liaison Office, CL:NPL:P, Room 7559, 1111 Constitution Avenue NW., Washington, DC 20224, Attn: IRSAC Applications. Applications may also be submitted via fax to 855-811-8021. Applications are available on the IRS Web site at https://www.irs.gov/pub/irs-pdf/f12339.pdf

FOR FURTHER INFORMATION CONTACT: Anna Millikan at 202-317-6851 (not a toll-free number), or send an email to publicliaison@irs.gov.

SUPPLEMENTARY INFORMATION: The IRSAC is authorized under the Federal Advisory Committee Act, Public Law 92-463. The first Advisory Group to the Commissioner of Internal Revenue—or the Commissioner's Advisory Group (“CAG”)—was established in 1953 as a “national policy and/or issue advisory committee.” Renamed in 1998, the Internal Revenue Service Advisory Council (IRSAC) reflects the agency-wide scope of its focus as an advisory body to the entire agency. The IRSAC's primary purpose is to provide an organized public forum for senior IRS executives and representatives of the public to discuss relevant tax administration issues.

Conveying the public's perception of IRS activities, the IRSAC is comprised of individuals who bring substantial, disparate experience and diverse backgrounds on the Council's activities. Membership is balanced to include representation from the taxpaying public, the tax professional community, small and large businesses, international, wage and investment taxpayers, digital services sector and knowledge of Treasury Circular 230.

The IRSAC members are appointed by the Commissioner of the Internal Revenue Service with the concurrence of the Secretary of the Treasury to serve a three-year term. The IRSAC may form subcommittees (or subgroups) for any purpose consistent with its charter. These subcommittees must report directly to the IRSAC parent committee.

Members are not paid for their services. However, travel expenses for working sessions, public meetings and orientation sessions, such as airfare, per diem, and transportation to and from airports, train stations, etc., are reimbursed within prescribed federal travel limitations.

All applicants will be sent an acknowledgment of receipt. In accordance with the Department of Treasury Directive 21-03, a clearance process, including annual tax checks and a practitioner check with the IRS Office of Professional Responsibility, will be conducted. In addition, all applicants deemed “Best Qualified” shall undergo a Federal Bureau of Investigation (FBI) fingerprint check.

Equal opportunity practices will be followed for all appointments to the IRSAC in accordance with the Department of Treasury and IRS policies. The IRS has special interest in assuring that women and men, members of all races and national origins, and individuals with disabilities are adequately represented on advisory committees. Therefore, the IRS extends particular encouragement to nominations from such appropriately-qualified candidates.

Dated: April 11, 2017.
John Lipold,
Designated Federal Official.

[FR Doc. 2017-08157 Filed 4-21-17; 8:45 am]

BILLING CODE 4830-01-P